FEDERAL RESERVE SYSTEM

Change in Bank Control Notices; Formations of, Acquisitions by, and Mergers of Bank Holding Companies; Correction

This notice corrects a notice (FR Doc. 2011-19441) published on pages 46296 and 46297 of the issue for Tuesday, August 2, 2011.

Under the Federal Reserve Bank of Philadelphia heading, the entry for, Patriot Financial Partners, GP, L.P., Patriot Financial Partners, L.P., Patriot Financial Partners Parallel, L.P., Patriot Financial Partners, GP, LLC, Patriot Financial Managers, L.P., and Ira M. Lubert, W. Kirk Wycoff and James J. Lynch, all of Philadelphia, Pennsylvania, is revised to read as follows:

A. Federal Reserve Bank of Philadelphia (William Lang, Senior Vice President), 100 North 6th Street, Philadelphia, Pennsylvania 19105-1521:

1. Patriot Financial Partners, GP, L.P., Patriot Financial Partners, L.P., Patriot Financial Partners Parallel, L.P., Patriot Financial Partners, GP, LLC, Patriot Financial Managers, L.P., Patriot Financial Managers, LLC, and Ira M. Lubert, W. Kirk Wycoff and James J. Lynch, all of Philadelphia, Pennsylvania; to acquire voting shares of Porter Bancorp, Inc., Louisville, Kentucky, and thereby indirectly acquire voting shares of PBI Bank, Louisville, Kentucky.

Comments on this application must be received by August 11, 2011.

Board of Governors of the Federal Reserve System, August 3, 2011.
Robert deV. Frierson,
Deputy Secretary of the Board.

[FR Doc. 2011-19977 Filed 8-5-11; 8:45 am]

BILLING CODE 6210-01-P